NATIONAL AERONAUTICS AND SPACE ADMINISTRATION

[Notice: 09-016]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Jasmeet Seehra, Desk Officer for NASA, Office of Information and Regulatory Affairs, Room 10236, New Executive Office Building, Washington, DC 20503.

FOR FURTHER INFORMATION CONTACT: Requests for additional information or copies of the information collection instrument(s) and instructions should be directed to Dr. Walter Kit, NASA Clearance Officer, NASA Headquarters, 300 E Street, SW., JF0000, Washington, DC 20546, (202) 358-1350, Walter.Kit-1@nasa.gov.

SUPPLEMENTARY INFORMATION:

I. Abstract

The information will be used by the Office of External Relations for export control oversight as well as by the NASA headquarters Office of Security and Program Protection (OSPP) to help fulfill its responsibilities for facilitating business visits and assignments that support U.S. national interests and NASA's international program interests and operational requirements.

II. Method of Collection

Respondents provide information for specific data fields. Data are provided via hard copy or electronic mail to a NASA representative who transfers the information into a database. To insure data security, access to the electronic data entry form is limited to approved NASA civil servants or contract employees. Thus, direct data entry by respondents is impossible. Original copies of support documents are required and downloaded and attached to each visit request for archive purposes or auditing.

III. Data

Title: Foreign National Clearance Request to Visit NASA Facilities.

OMB Number: 2700-0122.

Type of Review: Extension of Currently Approved Collection.

Affected Public: Not-for-profit institutions.

Estimated Number of Respondents: 12,400.

Estimated Number of Responses per Respondent: 1.

Estimated Time per Response: 0.5 hour.

Estimated Total Annual Burden Hours: 6,200 hours.

Estimated Total Annual Cost: $0.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Walter Kit,
NASA Clearance Officer.

[FR Doc. E9-4637 Filed 3-4-09; 8:45 am]

BILLING CODE 7510-13-P